NATIONAL ARCHIVES AND RECORDS ADMINISTRATION

[NARA-2024-005]

Senior Executive Service (SES) Performance Review Board; Members

AGENCY: Office of Human Capital, National Archives and Records Administration.

ACTION: Notice of membership on the SES Performance Review Board.

SUMMARY: Notice is hereby given of the appointment of members of the National Archives and Records Administration (NARA) Performance Review Board (PRB). The members of the PRB for the National Archives and Records Administration are: William J. Bosanko, Chief Operating Officer; Micah M. Cheatham, Chief of Management and Administration; and Valorie F. Findlater, Chief Human Capital Officer. These appointments supersede all previous appointments.

DATES: This appointment is effective on November 28, 2023.

FOR FURTHER INFORMATION CONTACT: Valorie Findlater, Office of Human Capital, by email at valorie.findlater@nara.gov or by telephone at (301) 837-3754.

SUPPLEMENTARY INFORMATION: The authority for this notice is 5 U.S.C. 4314(c), which also requires each agency to establish, in accordance with regulations prescribed by the Office of Personnel Management, one or more SES Performance Review Boards. The Board shall review the initial appraisal of a senior executive's performance by the supervisor and recommend final action to the appointing authority regarding matters related to senior executive performance.

Debra Steidel Wall,
Deputy Archivist of the United States.

[FR Doc. 2023-26196 Filed 11-27-23; 8:45 am]

BILLING CODE 7515-01-P